DEPARTMENT OF HOMELAND SECURITY

Coast Guard

[Docket No. CGD08-07-042]

Notice of Public Hearing on Bellaire Bridge Across the Ohio River, Mile 94.3 at Bellaire, OH

AGENCY: Coast Guard, DHS.

ACTION: Notice of public hearing.

SUMMARY: The Commander, Eighth Coast Guard District will hold a public hearing to receive comments concerning the status of the Bellaire Bridge at Bellaire, Ohio. The hearing will allow interested persons to present comments and information about the bridge not being used for transportation purposes and being an obstruction to navigation.

DATES: The hearing will be held on December 19, 2007, from 3 p.m. to 6 p.m. If you would like to submit written material and requests to make an oral presentation at the hearing, please notify the Bridge Administrator no later than December 12, 2007.

ADDRESSES: The hearing will be held at the Bellaire Library, 330 32nd Street, Bellaire, Ohio 43906. Send written material and requests to make oral comments to Commander (dwb), Eighth Coast Guard District, Bridge Branch, 1222 Spruce Street, Room 2.107F, Saint Louis, Missouri 63103.

Commander (dwb) maintains the public docket for this notice and hearing minutes, comments and material received from the public will become part of Docket CGD 08-07-042. Written comments will be accepted and should reach the Bridge Administrator by close of business on December 12, 2007. All information pertaining to this Docket CGD 08-07-042 will be available for inspection or copying at the above address between 8 a.m. and 4 p.m., Monday through Friday, except Federal holidays.

FOR FURTHER INFORMATION CONTACT: If you have questions regarding this notice call Mr. Roger K. Wiebusch, Bridge Administrator, telephone (314) 269-2378.

SUPPLEMENTARY INFORMATION:

Background

Complaints have been received alleging that the bridge is not used for transportation and is unreasonably obstructive to navigation. Information available to the Coast Guard reflects concern about the lack of use of the bridge and its structural condition. The bridge was built in 1924 by the Interstate Bridge Company and used for land transportation until 1990.

Procedural

The hearing is open to the public. Attendees at the hearing, who wish to present testimony and have not previously made a request to do so, will follow those having submitted a request, as time permits. If a large number of persons wish to speak, the presiding officer may limit the time allotted to each speaker. Conversely, the public hearing may end early if all present wishing to speak have done so.

Information on Services for Individuals With Disabilities

For information on facilities or services for individuals with disabilities or to request special assistance at the hearing, contact the individual listed in the FOR FURTHER INFORMATION CONTACT section as soon as possible.

Dated: November 6, 2007.
Roger K. Wiebusch,
Bridge Administrator.

[FR Doc. E7-22351 Filed 11-14-07; 8:45 am]

BILLING CODE 4910-15-P